FEDERAL COMMUNICATIONS COMMISSION

[FR ID 27383]

Meeting of the Ending 9-1-1 Fee Diversion Now Strike Force

AGENCY: Federal Communications Commission.

ACTION: Notice.

SUMMARY: In accordance with the Federal Advisory Committee Act, the Federal Communications Commission (Commission) announces and provides a preliminary agenda for the first meeting of the “Ending 9-1-1 Fee Diversion Now Strike Force” (911 Strike Force).

DATES: Thursday, June 3, 2021, beginning at 10 a.m. EDT.

ADDRESSES: Federal Communications Commission, 45 L Street NE, Washington, DC 20554.

FOR FURTHER INFORMATION CONTACT: John A. Evanoff, Designated Federal Officer, Federal Communications Commission, Public Safety and Homeland Security Bureau, (202) 418-0848; or Jill Coogan, Deputy Designated Federal Officer, Federal Communications Commission, Public Safety and Homeland Security Bureau, (202) 418-1499; or email: 911StrikeForce@fcc.gov.

SUPPLEMENTARY INFORMATION: Proposed Agenda: The agenda for the meeting will include introducing members of the 911 Strike Force, including the Committee Chair and Vice-Chair, and establishing working groups that will assist the 911 Strike Force in carrying out its work. This agenda may be modified at the discretion of the 911 Strike Force Chair and the Designated Federal Officer. As will be discussed, the 911 Strike Force's mission is to study how the Federal Government can most expeditiously end diversion by a state or taxing jurisdiction of 911 fees or charges by (1) determining the effectiveness of any Federal laws, including regulations, policies, and practices, or budgetary or jurisdictional constraints, to end fee diversion; (2) considering whether criminal penalties would further prevent diversion; and (3) determining the impacts of diversion. The 911 Strike Force will publish on the Commission's website and submit to the Committee on Energy and Commerce of the House of Representatives and the Committee on Commerce, Science, and Transportation of the Senate a report on its findings no later than September 23, 2021. The June 3, 2021 meeting will be held in a wholly electronic format to accommodate continuing public health precautions related to the coronavirus (COVID-19) pandemic.

The June 3, 2021, meeting will be open to members of the general public via live broadcast over the internet from the FCC Live web page at http://www.fcc.gov/live/. The public may also follow the meeting on Twitter @fcc or via the Commission's Facebook page at www.facebook.com/fcc. Members of the public may submit any questions that arise during the meeting to livequestions@fcc.gov.

Open captioning will be provided for the live stream. Other reasonable accommodations for people with disabilities are available upon request. To request an accommodation, or for materials in accessible formats for people with disabilities (Braille, large print, electronic files, audio format), send an email to fcc504@fcc.gov or call the Consumer and Governmental Affairs Bureau at (202) 418-0530 (voice), (202) 418-0432 (TTY). Such requests should include a detailed description of the accommodation needed. In addition, please include a way for the Commission to contact the requester if more information is needed to fulfill the request. Please allow at least five days' advance notice; last-minute requests will be accepted but may not be possible to accommodate.

Federal Communications Commission.
Marlene Dortch,
Secretary.

[FR Doc. 2021-10597 Filed 5-17-21; 11:15 am]

BILLING CODE 6712-01-P